DEPARTMENT OF JUSTICE

Antitrust Division

Notice Pursuant to the National Cooperative Research and Production Act of 1993—TeleManagement Forum

Notice is hereby given that, on September 16, 2019, pursuant to Section 6(a) of the National Cooperative Research and Production Act of 1993, 15 U.S.C. 4301 et seq. (“the Act”), TeleManagement Forum (“The Forum”) filed written notifications simultaneously with the Attorney General and the Federal Trade Commission disclosing changes in its membership. The notifications were filed for the purpose of extending the Act's provisions limiting the recovery of antitrust plaintiffs to actual damages under specified circumstances. Specifically, Wavelength Communications Ltd, St Albans, UNITED KINGDOM; Nuevatel PCS de Bolivia, La Paz, BOLIVIA; Mvine Limited, London, UNITED KINGDOM; VCT International, Somerset, NJ; Telenor Connexion, Solna, SWEDEN; Falcorp Technologies, Midrand, SOUTH AFRICA; GDX, Dainfern, SOUTH AFRICA; Altice Labs, S.A, Aveiro, PORTUGAL; Inceptum d.o.o. za usluge, Zagreb, CROATIA; Etisalat UAE, Abu Dhabi, UNITED ARAB EMIRATES; SES Astra S.A., Betzdorf, LUXEMBOURG; Couchbase Limited, London, UNITED KINGDOM; Innowave Technologies, Lisbon, PORTUGAL; Innovation, Riyadh, SAUDI ARABIA; T-Mobile Nederland BV, Den Haag, THE NETHERLANDS; STC Solutions, Riyadh, SAUDI ARABIA; PrJSC 'VF Ukraine', Kyiv, UKRAINE; Magyar Telekom Plc., Budapest, HUNGARY; TIMWETECH, Lisbon, PORTUGAL; Business-intelligence of Oriental Nations Corporation Ltd., Beijing, PEOPLE'S REPUBLIC OF CHINA; Asiainfo International (H.K.) Limited, Hong Kong, HONG KONG-CHINA; China Mobile Online Service Company Limited Yunnan Branch, Kunming, PEOPLE'S REPUBLIC OF CHINA; Unitel Group, Ulan Bator, MONGOLIA; POSLOVNA INTELIGENCIJA d.o.o., Zagreb, CROATIA; Deviare, Johannesburg, SOUTH AFRICA; Amalgamotion PTY, East Lindfield, AUSTRALIA; St. Petersburg College, St. Petersburg, FL; Roads and Transport Authority, Dubai, UNITED ARAB EMIRATES; Valo Networks, Calgary, CANADA; Abdatis, Regina, CANADA; Vertical Systems Group, Norwood, MA; TelcoVas Solutions and Services Limited, Sharjah, UNITED ARAB EMIRATES; University of Applied Sciences Konstanz, Konstanz, GERMANY; LE SAVOIR-FAIRE ITIL, Yaounde, CAMEROON; Mindarray Systems Pvt. Ltd, Ahmedabad, INDIA; Florida Institute of Technology, Melbourne, FL; Optix Pakistan (Pvt.) Limited, Lahore, PAKISTAN; J. Rosen Consulting KG, Vienna, AUSTRIA; SPPrac, Cape Town, SOUTH AFRICA; Panorama Software (Europe) Ltd, Borehamwood, UNITED KINGDOM; Inmanta, Leuven, BELGIUM; Biplus Vietnam Software Solution JSC, Hanoi, VIETNAM; IOTA Foundation c/o Nextland, Berlin, GERMANY; KDext j.d.o.o., Zagreb, CROATIA; EverestIMS Technologies, Bangalore, INDIA; Etihad Etisalat Mobily, Riyadh, SAUDI ARABIA; North State Telephone Company d.b.a. NorthState, A North Carolina corporation, High Point, NC; Arago, New York, NY; ServiceNow, Inc., San Jose, CA; Science Applications International Corporation, Reston, VA; ARRIS Solutions, Inc., Suwanee, GA; LogiSense Corporation, Cambridge, CANADA; Mercato, Birmingham, UNITED KINGDOM; r3., London, UNITED KINGDOM; Seacom ltd, Curepipe, MAURITIUS; Unico Computer Systems, Melbourne, AUSTRALIA; Bain & Company, Inc., Munich, GERMANY; Celfinet, Lisbon, PORTUGAL; and 1&1 Versatel GmbH, Flensburg, GERMANY, have been added as parties to this venture.

Also, the following members have changed their names: Ernst & Young LLP to Ernst & Young, New York, NY; Vodafone Ukraine to PrJSC 'VF Ukraine', Kyiv, UKRAINE; Isoton to Isoton Pty Ltd, Adelaide, AUSTRALIA; and SAIC to Science Applications International Corporation, Reston, VA.

In addition, the following parties have withdrawn as parties to this venture: Accruent, LLC, Austin, TX; Agillis Satcom, 567710, SINGAPORE; APInf, Tampere, FINLAND; ArtOfArc, Dortmund, GERMANY; AVSystem, Kraków, POLAND; Beesion Technologies, Fort Lauderdale, FL; Brytlyt Limited, Maidstone, UNITED KINGDOM; CA IT Management Solution Spain S.L.U, Barcelona, SPAIN; Cartesian, Overland Park, VA; Cellos Software Limited, Melbourne, AUSTRALIA; CENX, Ottawa, CANADA; Dark Fibre Africa, Gauteng, SOUTH AFRICA; Deploy Partners Pty Ltd, Newport, AUSTRALIA; Dimension Data, Johannesburg, SOUTH AFRICA; Docomo Pacific, Tamuning, GUAM; EMC, Hopkinton, MA; Entel Peru SA, Lima, PERU; Ergon Informatik AG, Zurich, SWITZERLAND; FASTWEB, Milano, ITALY; ForgeRock Ltd., Bristol, UNITED KINGDOM; Freestone Ltd, London, UNITED KINGDOM; GEMALTO SA, Meudon, FRANCE; GE Smallworld, Chesterton, UNITED KINGDOM; Guavus, San Jose, CA; Hangzhou Eastcom Software Technology Co., Ltd, Guangzhou, PEOPLE'S REPUBLIC OF CHINA; Hortonworks Inc., Santa Clara, CA; Icaro Tech, Campinas, BRAZIL; Ideasoft Uruguay S.R.L., Montevideo CP, URUGUAY; Inabox Group Limited, Sydney, AUSTRALIA; Indra Sistemas S.A., Madrid, SPAIN; Inomial Pty Ltd, Melbourne, AUSTRALIA; ISPM, Rio de Janeiro, BRAZIL; Italtel S.p.A, Settimo Milane, ITALY; Juvo, San Francisco, CA; Knowesis Pte Ltd, Singapore, SINGAPORE; Millicom—Tigo—Paraguay, Fernando De La Mora, PARAGUAY; NW Consulting, Billericay, UNITED KINGDOM; Panamax Inc., New York, NY; Peritus j.d.o.o., Varaždin, CROATIA; Philips Electronics Nederland B.V., Eindhoven, THE NETHERLANDS; PT Telkomunikasi Indonesia, Bandung, INDONESIA; Simple Consulting, Santiago de Chile, CHILE; Simpledata Group S.A., Santiago, CHILE; Singapore Management University, Singapore, SINGAPORE; solvatio AG, Rimpar, GERMANY; Space Star Technology Co., Ltd., Beijing, PEOPLE'S REPUBLIC OF CHINA; SP Telecommunications Pte Ltd, Singapore, SINGAPORE; Stream Technologies Ltd, Glasgow, UNITED KINGDOM; Subex, Bangalore, INDIA; SunTec Business Solutions Pvt Ltd, Kerala, INDIA; Suomen Erillisverkot Oy, Espoo, FINLAND; Swiss Post Ltd, Berne, SWITZERLAND; Technology Transitions, Inc., Bound Brook, NJ; Teltech Communications LLC, Dallas, TX; Thunderhead, London, UNITED KINGDOM; Twinsec GmbH, Koln, GERMANY; University of Málaga, Málaga, SPAIN; UXP Systems, Toronto, CANADA; Windstream Communications, Little Rock, AR; Wind Tre S.P.A., Rome, ITALY; Wytec International, Inc., San Antonio, TX; Xpertnest, Biggleswade, UNITED KINGDOM; Zat Consulting, Lima, PERU; 100 Celsius AI, Frick, SWITZERLAND; Active Ticketing PLC, London, UNITED KINGDOM; AGGAROS, Barcelona, SPAIN; Agile Fractal Grid, Inc., Medway, MA; Airtel Africa, Nairobi, KENYA; Algorithmic Intuition Inc., Millbrae, CA; AMKB Cloud, Denver, CO; Andorra Telecom, Santa Coloma, ANDORRA; APIVERSITY, Madrid, SPAIN; Araxxe, Lyon, FRANCE; ARGELA Yazilim ve Bilisim Teknolojileri Sanayi ve Ticaret A.S., Istanbul, TURKEY; AsiaCell Communications LLC, Sulaymaniyah, IRAQ; Atilze Digital, Petaling Jaya, MALAYSIA; Axiros GmbH, Munich Hoehenkirchen, GERMANY; BaseN, Helsinki, FINLAND; Basildon Borough Council, Basildon, UNITED KINGDOM; Beyond Verbal, Tel Aviv, ISRAEL; Bharat Broadband Network Limited, Chhattarpur, INDIA; BOC, Dublin, IRELAND; BPS Service Consulting and Development SAS, Bogotá DC, COLOMBIA; BridgeWorx Ltd, Brighton, UNITED KINGDOM; Bring Labs, Lisbon, PORTUGAL; Bristol is Open, Bristol, UNITED KINGDOM; CableVision, SA, Buenos Aires, ARGENTINA; CallVU, Tel Aviv, ISRAEL; and Carphone Warehouse Ltd, London, UNITED KINGDOM.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on January 29, 2019. A notice was published in the Federal Register pursuant to Section 6(b) of the Act on February 12, 2019 (84 FR 3490).

Suzanne Morris,
Chief, Premerger and Division Statistics Unit, Antitrust Division.

[FR Doc. 2019-23634 Filed 10-29-19; 8:45 am]

BILLING CODE 4410-11-P